DEPARTMENT OF TRANSPORTATION

Federal Railroad Administration

[Docket Number FRA-2002-14116]

Petition for Waiver of Compliance

Under part 211 of Title 49 of the Code of Federal Regulations (CFR), this provides the public notice that on January 23, 2018, Grand Trunk Western Railroad Company (GTW), which operates under the trade name Canadian National Railway (CN), has petitioned the Federal Railroad Administration (FRA) for an extension of an existing waiver of compliance from certain provisions of the Federal railroad safety regulations contained at 49 CFR 236.408, Route Locking, and to make the waiver of compliance permanent. FRA assigned the petition docket number FRA-2002-14116.

In 2002 CN requested permission to operate the 32nd Street Crossover, power operated switches, at milepost 333.28, in the existing traffic control system, at Port Huron, Michigan, on the Flint Subdivision, Midwest Division, without Route Locking. The request was based on the fact that the crossover design is not uncommon in the railroad industry, and provides all the requisite components and safety features of a standard interlocking, or an electric lock location. FRA initially granted CN's request in 2003, extending the relief in 2008 and 2013.

CN states that it has operated under this waiver for fifteen years without incident, therefore it believes that making the relief permanent is appropriate.

A copy of the petition, as well as any written communications concerning the petition, is available for review online at www.regulations.gov and in person at the U.S. Department of Transportation's (DOT) Docket Operations Facility, 1200 New Jersey Avenue SE, W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted by any of the following methods:

• Website: http://www.regulations.gov. Follow the online instructions for submitting comments.

• Fax: 202-493-2251.

• Mail: Docket Operations Facility, U.S. Department of Transportation, 1200 New Jersey Avenue SE, W12-140, Washington, DC 20590.

• Hand Delivery: 1200 New Jersey Avenue SE, Room W12-140, Washington, DC 20590, between 9 a.m. and 5 p.m., Monday through Friday, except Federal Holidays.

Communications received by March 19, 2018 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Issued in Washington, DC.
Robert C. Lauby,
Associate Administrator for Railroad Safety, Chief Safety Officer.

[FR Doc. 2018-01959 Filed 1-31-18; 8:45 am]

BILLING CODE 4910-06-P